ENVIRONMENTAL PROTECTION AGENCY

[FRL-9911-87-OEI; EPA-HQ-OEI-2014-0014]

Amendment of PeoplePlus (EPA-1)

AGENCY: Environmental Protection Agency (EPA).

ACTION: Notice.

SUMMARY: Pursuant to the provisions of the Privacy Act of 1974 (5 U.S.C. 552a), the Environmental Protection Agency (EPA) is giving notice that it is amending the PeoplePlus (EPA-1) system of records to reflect that the Agency is transferring its human resources and payroll processing services to the Department of the Interior's (DOI) Federal Personnel and Payroll System (FPPS).

DATES: Persons wishing to comment on this system of records notice may do so by July 15, 2014.

ADDRESSES: Submit your comments, identified by Docket ID No. EPA-HQ-OEI-2014-0014, by one of the following methods:

• www.regulations.gov: Follow the online instructions for submitting comments.

• Email: oei.docket@epa.gov

• Fax: 202-566-1752.

• Mail: OEI Docket, Environmental Protection Agency, Mail Code: 2822T, 1200 Pennsylvania Ave. NW., Washington, DC 20460.

• Hand Delivery: OEI Docket, EPA/DC, WJC West Building, Room 3334, 1301 Constitution Ave. NW., Washington, DC. Such deliveries are only accepted during the Docket's normal hours of operation, and special arrangements should be made for deliveries of boxed information.

Instructions: Direct your comments to Docket ID No. EPA-HQ-OEI-2014-0014. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information for which disclosure is restricted by statute. Certain other material, such as copyrighted material, will be publicly available only in hard copy. Publicly available docket materials are available either electronically in www.regulations.gov or in hard copy at the OEI Docket, EPA/DC, WJC West Building, Room 3334, 1301 Constitution Ave. NW., Washington. DC. The Public Reading Room is open from 8:30 a.m. to 4:30 p.m., Monday through Friday, excluding legal holidays. The telephone number for the Public Reading Room is (202) 566-1744, and the telephone number for the OEI Docket is (202) 566-1752.

FOR FURTHER INFORMATION CONTACT: Bobby Moore, Office of Human Resources, Office of Administration and Resources Management, U.S. Environmental Protection Agency, 1200 Pennsylvania Ave. NW., (MC 3603M), Washington, DC 20460, 202-564-7542.

General Information

EPA is amending the PeoplePlus system of records (EPA-1) to reflect the transition of (1) human resources records from PeoplePlus and (2) payroll records from the Defense Finance and Accounting Services (DFAS) to the Department of the Interior's (DOI) Interior Business Center's (IBC) Federal Personnel and Payroll System (FPPS). The IBC will process personnel actions and payroll for EPA employees through FPPS, including computing each employee's gross pay, subtracting deductions and benefits and forwarding net payments to banks. EPA will then perform labor distribution and enter the information into its central accounting system. The records in FPPS have various uses by Agency personnel offices, including screening qualifications of employees; determining status, eligibility, and employee's rights and benefits under pertinent laws and regulations governing federal employment; computing length of service; and providing other information needed to support personnel services. The electronic records and their automated or microform equivalents may also be used to locate individuals for personnel research.

Modernizing and consolidating payroll processing services is part of an overall e-government effort led by the Office of Personnel Management (OPM) to consolidate executive branch payroll providers, develop shared service centers, simplify and standardize civilian payroll procedures across the Federal government. This action gives notice that the human resources and payroll processing functions are being transferred to the IBC.

Dated: May 14, 2014.
Renee Wynn,
Acting Assistant Administrator and Acting Chief Information Officer.

EPA-1

System Name:

PeoplePlus.

System Location:

Department of the Interior, 7301 West Mansfield Avenue, MS D-2400, Denver, CO 80235-2230

Categories of Individuals Covered by the System:

Current and former EPA employees including Health and Human Services Public Health Service Commissioned Officers assigned to EPA.

Categories of Records Covered by the System:

This system contains general human resources elements, basic benefits pay and leave records. This includes, but is not limited to, employee identification and employment status data such as: name(s); records that establish an individual's identity; social security number; date of birth; sex; race and national origin; disability; home and mailing addresses; home telephone numbers and telephone numbers for emergency contacts; type of appointments; education; training courses attended; veteran preference; military service; service computation for leave; beginning date of probationary and trial periods; annual performance ratings; dates and amounts of individual cash, time off, rating based, and suggestion, patents and invention awards, date of and amount of group cash, time off, and suggestion, patents, and inventions awards, grievances and adverse actions for performance-based reductions in grade and removal actions; terminations of probationers; dates of within-grade increases; Intergovernmental Personnel Act records; union bargaining unit status (bus) codes; employing organization codes; salary, pay plan, grade and step; adjudications of position classifications and appeals; retained grade or pay appeals; Fair Labor Standards Act (FLSA) claim complaints; forms and reports completed during employment as a condition of employment; records from the testing of the employee for use of illegal drugs; reports of on-the-job injuries and medical records; forms and reports pertaining to Workers' Compensation claims; number of hours worked; overtime; compensatory time; leave accrual rate; leave usage and balances; Thrift Saving Plans (TSP); TSP loans; Civil Service Retirement and Federal Employees Retirement System contributions; Federal Insurance Contributions Act (FICA) withholdings; federal, state, and city tax withholdings; Federal Employee Group Life Insurance withholdings; Federal Long-Term Care insurance elections; Federal Employee Health Benefits withholdings; charitable deductions; allotments to financial organizations; garnishments; savings bonds allotments; union dues withholdings; deductions for Internal Revenue Service levies; court-ordered child support levies; federal salary offset deductions; information on the Leave Transfer Program and Leave Bank Program; Flexible Spending Account (FSA) information; child care subsidy; time compliance technical orders (TCTOs); Physicians Comparability Allowances (PCA); uniform allowances; non-foreign cost-of-living allowances; within grade increase; quality step increase; student loan repayment program; recruitment; relocation; retention incentives; extended assignment incentives; supervisory, post and night pay differentials; Sunday premium pay; law enforcement availability pay; administratively uncontrollable overtime pay; regularly scheduled standby duty pay; evacuation payment and hazardous duty.

Authority for Maintenance of the System:

5 U.S.C. 5101 et seq.; 5 U.S.C. 5501 et seq.; 5 U.S.C. 5525 et seq.; 5 U.S.C. 5701 et seq.; 5 U.S.C. 6301 et seq.; 31 U.S.C. 3512; Executive Order 9397 (Nov. 22, 1943); 5 U.S.C. 6362; 5 U.S.C. 6311.

Purpose(s):

These records will be used to administer EPA's pay and leave requirements, including processing, accounting and reporting. The records also provide the authoritative source for factual data about an individual's federal employment and separation from federal service. Records in FPPS are used by Agency personnel offices for various purposes, including screening qualifications of employees; determining status, eligibility, and employee's rights and benefits under pertinent laws and regulations governing federal employment; computing length of service; and to provide other personnel services. The records may also be used to locate individuals for personnel research.

Routine Uses of Records Maintained in the System, Including Categories of Users, and the Purposes of Such Uses:

General routine uses A, B, C, D, E, F, G, H, I, J, K, and L apply to this system. Records may also be disclosed:

1. To the Department of the Treasury to issue checks, make payments, make electronic funds transfers, and issue U.S. Savings Bonds.

2. To the Federal Retirement Thrift Investment Board to credit Thrift Savings Plan deductions and loan payments to employee accounts.

3. To the Department of Labor in connection with a claim filed by an employee for compensation due to a job connected injury or illness.

4. To the Internal Revenue Service, Social Security Administration, and state and local tax authorities in connection with withholding employment taxes and tax levies.

5. To state unemployment offices in connection with a claim filed by former employees for unemployment benefits.

6. To the officials of labor organizations to identify the amount of dues withheld from each employee.

7. To the Office of Personnel Management and to health benefit carriers in connection with enrollment and payroll deductions.

8. To the Office of Personnel Management in connection with employee retirement and life insurance deductions.

9. To the Combined Federal Campaign in connection with payroll deductions for charitable contributions.

10. To the Office of Management and Budget and Department of the Treasury to provide required reports on financial management responsibilities.

11. To provide information, as necessary, to other federal, state, local or foreign agencies conducting computer matching programs to help eliminate fraud and abuse and to detect unauthorized payments made to individuals. When disclosures are made under computer matching programs, EPA will comply with the Computer Matching and Privacy Protection Act of 1988.

12. To the Social Security Administration and the Department of Health and Human Services to provide information on newly hired employees for child support enforcement purposes.

13. To the Department of Health and Human Services in connection with the master personnel and payroll files for Public Health Service Officers.

14. To the Department of Interior to provide payroll processing services.

15. To Federal Retirement Benefit contractors to enable employees to receive retirement benefit calculations.

16. To disclose information to government training facilities (federal, state, and local) in review of Skillsoft's eLearning courses as part of Enterprise Human Resources Integration (EHRI).

17. To disclose information to EPA's Office of Civil Rights and the Equal Employment Opportunity Commission (EEOC) upon request to assist with investigations of alleged or possible discrimination practices in the federal sector and in response to the EEOC's request for records to use in the examination of an agency's compliance with affirmative action plan instructions and the Uniform Guidelines on Employee Selection Procedures.

Policies and Practices for Storing, Retrieving, Accessing, Retaining, and Disposing of Records in the System:

• Storage: Records are maintained in paper, microfilm, microfiche, electronic, imaged and on computer printouts. Current and historical records are stored on magnetic media at the Department of the Interior's (DOI) central computer processing center located at the National Business Center, 7301 W. Mansfield Ave., Denver, CO 80235. Source documents are stored in standard office filing equipment and/or as imaged documents on magnetic media at all Agency human resource centers.

• Retrievability: Records are retrieved by the employee identification number, employee name and other identifiers.

• Safeguards: Computer records are maintained in a secure password-protected environment. Access to computer records is limited to those who have a need to know. Permission level assignments allow users to access only those functions for which they are authorized. Paper records are maintained in locked metal file cabinets. All records are maintained in secure, access-controlled areas or buildings.

• Retention and Disposal: The records contained in this system of records are covered by EPA record schedule 300 for purposes of retention and disposal.

• System Manager(s) and Address: Director, Office of Human Resources, Office of Administration and Resources Management, U.S. Environmental Protection Agency, 1200 Pennsylvania Avenue NW., (MC 3601ARN), Washington, DC 20460 and Director, Office of Financial Services, Office of the Chief Financial Officer, U.S. Environmental Protection Agency, 1200 Pennsylvania Avenue NW., (MC 2734R), Washington, DC 20460.

Notification Procedures:

Any individual who wants to know whether this system of records contains a record about him or her, who wants access to his or her record, or who wants to contest the contents of a record, should make a written request to the EPA FOIA Office, Attn: Privacy Act Officer, MC 2822T, 1200 Pennsylvania Avenue NW., Washington, DC 20460.

Record Access Procedure:

Individuals seeking access to information in this system of records about themselves are required to provide adequate identification (e.g. driver's license, military identification card, employee badge or identification card and, if necessary, proof of authority). Additional identity verification procedures may be required, as warranted. Requests must meet the requirements of EPA regulations that implement the Privacy Act of 1974, at 40 CFR part 16.

Contesting Record Procedure:

Requests for correction or amendment must identify the record to be changed and the corrective action sought. Requests must be submitted to the agency contact indicated on the initial document for which the related contested record was submitted.

Record Source Categories:

Information in this system of records is provided by:

(a) The individual on whom the record is maintained.

(b) Agency officials.

(c) Consumer reporting agencies, debt collection agencies, the Department of the Treasury and other federal agencies.

(d) Federal Retirement Benefit contractors.

(e) Leave bank forms.

System Exempted from Certain Provisions of the Act:

None.

[FR Doc. 2014-13058 Filed 6-4-14; 8:45 am]

BILLING CODE 6560-50-P